ENVIRONMENTAL PROTECTION AGENCY

40 CFR Part 52

[EPA-R09-OAR-2016-0772; FRL-9958-18-Region 9]

Determination of Attainment and Approval of Base Year Emissions Inventories for the Imperial County, California Fine Particulate Matter Nonattainment Area

AGENCY: Environmental Protection Agency (EPA).

ACTION: Proposed rule.

SUMMARY: The Environmental Protection Agency (EPA) is determining that the Imperial County, California Moderate nonattainment area (“the Imperial County NA”) has attained the 2006 24-hour fine particulate matter (PM2.5) national ambient air quality standard (NAAQS). The EPA is also approving a revision to California's state implementation plan (SIP) consisting of the 2008 winter and annual base year emissions inventories for the Imperial County NA submitted by California Air Resources Board on January 9, 2015.

DATES: Any comments on this proposal must arrive by April 12, 2017.

ADDRESSES: Submit your comments, identified by Docket ID No. EPA-R09-OAR-2016-0772 at http://www.regulations.gov, or via email to Ginger Vagenas, at vagenas.ginger@epa.gov. For comments submitted at Regulations.gov, follow the online instructions for submitting comments. Once submitted, comments cannot be removed or edited from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Ginger Vagenas, EPA Region IX, (415) 972-3964, vagenas.ginger@epa.gov.

SUPPLEMENTARY INFORMATION: Throughout this document, “we,” “us” and “our” refer to the EPA. This proposal pertains to the 2008 winter and annual base year emissions inventories in a plan submitted by the California Air Resources Board to address the attainment planning requirements for the Imperial County NA. It also addresses our determination (also referred to as a clean data determination or CDD) that the Imperial County NA has attained the 2006 24-hour PM2.5 NAAQS. In the Rules and Regulations section of this issue of the Federal Register, we are approving the 2008 winter and annual base year emissions inventories and making this CDD in a direct final action without prior proposal because we believe this SIP revision and CDD are not controversial. If, however, we receive adverse comments we will publish a timely withdrawal of the direct final rule and address the comments in subsequent action based on this proposed rule. If we receive adverse comment on a distinct provision of this rulemaking, we will publish a timely withdrawal in the Federal Register indicating which provision we are withdrawing. The provision that is not withdrawn will become effective on the date set out above, notwithstanding adverse comment on the other provision.

We do not plan to open a second comment period, so anyone interested in commenting should do so at this time. If we do not receive adverse comments, no further activity is planned. For further information, please see the direct final action.

Dated: January 3, 2017.
Alexis Strauss,
Acting Regional Administrator, Region IX.

[FR Doc. 2017-04782 Filed 3-10-17; 8:45 am]

BILLING CODE 6560-50-P